FEDERAL COMMUNICATIONS COMMISSION

Notice of Public Information Collection(s) Being Reviewed by the Federal Communications Commission, Comments Requested

September 11, 2003.

SUMMARY: The Federal Communications Commission, as part of its continuing effort to reduce paperwork burden invites the general public and other Federal agencies to take this opportunity to comment on the following information collection(s), as required by the Paperwork Reduction Act (PRA) of 1995, Pub. L. No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 17, 2003. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW, Washington, DC 20554 or via the Internet to Judith-B.Herman@fcc.gov.

FOR FURTHER INFORMATION CONTACT: For additional information or copies of the information collection(s), contact Judith B. Herman at (202)-418-0214 or via the Internet at Judith-B.Herman@fcc.gov.

SUPPLEMENTARY INFORMATION: OMB Control No.: 3060-1044.

Title: Review of the Section 251 Unbundling Obligations of Incumbent Local Exchange Carriers CC Docket #01-338, 96-98, 98-147, Report and Order and Order on Remand and Further NPRM.

Form No.: N/A.

Type of Review: Extension of currently approved collection.

Respondents: Business and other for-profit, not-for-profit institutions and State, local or tribal Government.

Number of Respondents: 2,369.

Estimated Time Per Response: 8-40 hours.

Frequency of Response: On occasion reporting, recordkeeping requirement, and third party disclosure requirements.

Total Annual Burden: 74,120 hours.

Total Annual Cost: $5,275,000.

Needs and Uses: In the Report and Order on Remand and Further Notice of Proposed Rulemaking, issued in CC Dockets 01-338, 96-98, 98-147, the Commission adopts new rules to govern the availability of unbundled network elements to competitive local exchange carriers from incumbent local exchange carriers. The Commission amends its standard for determining which network elements must be provided on an unbundled basis and determines which network elements meet this standard. The Commission establishes eligibility criteria for certain combinations of unbundled network elements. The Commission allows state regulatory commissions to initiate proceedings to make additional determinations consistent with specific Commission guidance.

OMB Control No.: 3060-0929.

Title: Application for Multipoint Distribution Service or Instructional Television Fixed Service Modification to Main Station, Booster Station, Response Station Hub or 125 kHz (I Channels) station.

Form No.: FCC 331.

Type of Review: Extension of a currently approved collection.

Respondents: Business or other for-profit; Not-for-profit institutions.

Number of Respondents: 4,000.

Estimated Time Per Response: 55 hours.

Frequency of Response: On occasion reporting requirement and other open window filing.

Total Annual Burden: 8,000 hours.

Total Annual Cost: 19,465,000.

Needs and Uses: FCC Form 331 is to be used by Multipoint Distribution Service (MDS), Multichannel Multipoint Distribution Service (MMDS), Instructional Television Fixed Service (ITFS) or commercial ITFS licensees to apply for modification to a main station, or modification to or a new response station hub, high-power signal booster station, low-power signal booster station or 125 kHz (I Channel) station. The FCC uses the information to determine whether the applicant meets legal and technical requirements and to ensure that the public interest would be served by grant of the application.

Federal Communications Commission.
Marlene H. Dortch,
Secretary.

[FR Doc. 03-23796 Filed 9-17-03; 8:45 am]

BILLING CODE 6712-01-P